FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATE: The date of issuance of the Flood Insurance Rate Map (FIRM) showing base flood elevations and modified base flood elevations for each community. This date may be obtained by contacting the office where the FIRM is available for inspection as indicated in the table below.

ADDRESSES: The final base flood elevations for each community are available for inspection at the office of the Chief Executive Officer of each community. The respective addresses are listed in the table below.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR part 67.

FEMA has developed criteria for floodplain management in floodprone areas in accordance with 44 CFR Part 60.

Interested lessees and owners of real property are encouraged to review the proof Flood Insurance Study and FIRM available at the address cited below for each community.

The base flood elevations and modified base flood elevations are made final in the communities listed below. Elevations at selected locations in each community are shown.

National Environmental Policy Act

This rule is categorically excluded from the requirements of 44 CFR part 10, Environmental Consideration. No environmental impact assessment has been prepared.

Regulatory Flexibility Act

The Associate Director for Mitigation certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This proposed rule meets the applicable standards of Section 2(b)(2) of Executive Order 12778.

List of Subjects in 44 CFR part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground *Elevation in feet (NGVD)
ARKANSAS
Benton County and Incorporated Areas (FEMA Docket No. 7322)
Osage/Turtle Creek:
Just upstream of North 12th Street | *1,325
Approximately 400 feet upstream of North 6th Street | *1,340
Blossom Way Creek:
At its confluence with Osage/Turtle Creek | *1,205
At its intersection with South 26th Street | *1,276
Osage Tributary 1:
At its intersection with (Horsebarn Tributary) Stoney Brook | *1,204
Approximately 700 feet upstream of Horsebarn Road | *1,252
Superior Tributary:
At its confluence with Osage/Turtle Creek to Osage/Turtle Creek | *1,284
Approximately 1,300 feet upstream of Dixieland Road | *1,314
Tributary 1 to Blossom Way Creek:
At its confluence with Blossom Way Creek | *1,288
Approximately 3,300 feet upstream of its confluence with Tributary 2 of Blossom Way Creek | *1,325
Tributary 2 of Blossom Way Creek:
At its confluence with Tributary 1 of Blossom Way Creek | *1,299
Approximately 4,300 feet upstream of Honeysuckle Road | *1,332
Tributary 3 of Blossom Way Creek:
At its confluence with Blossom Way Creek | *1,257
Approximately 1,900 feet upstream from its confluence with Blossom Way Creek | *1,268
Maps for Benton County are available for inspection at 215 East Central, Suite 8, Room 302, Bentonville, Arkansas.
Maps for the City of Rogers are available for inspection at 207 South Second, Rogers, Arkansas.
Maps for the City of Lowell are available for inspection at 214 North Lincoln Street, Lowell, Arkansas.
Maps for the City of Bentonville are available for inspection at 315 Southwest A Street, Bentonville, Arkansas.
———
Crawford County and Incorporated Areas (FEMA Docket No. 7322)
Tributary 1:
At its confluence with Little Frog Bayou | *413
Approximately 350 feet upstream of East Cherry Street | *431
Tributary 2:
At its confluence with Tributary 1 | *418
Approximately 275 feet upstream of East Cherry Street | *429
Tributary 4:
At its confluence with Little Frog Bayou Tributary | *444
Approximately 1,200 feet upstream of its confluence with Little Frog Bayou Tributary | *469
Tributary A:
Approximately 650 feet downstream of the Union Pacific Railroad | *411
Just upstream of Arkansas Highway 64 | *434
Lighthouse Drain:
At its confluence with Tributary A | *414
Approximately 100 feet upstream of Lighthouse Drive | *439
Little Frog Bayou Tributary:
At its confluence with Little Frog Bayou | *426
Just upstream of Maple Shade Road | *508
Maps for Crawford County are available for inspection at 300 Main Street, Room 4, Van Buren, Arkansas.
Maps for the City of Alma are available for inspection at 804 Fayetteville Avenue, Suite B, Alma, Arkansas 72921.
———
City of Russellville, Pope County (FEMA Docket No. 7322)
Whig Creek:
At its intersection with the Union Pacific Railroad | *393
Just upstream of Arkansas Highway 64 | *416
Whig Creek Tributary No. 1:
At its confluence with Whig Creek | *323
Approximately 500 feet upstream of Arkansas Highway 75 | *326
Whig Creek Tributary No. 2:
At its confluence with Whig Creek | *323
Approximately 2,500 feet upstream of the Dardanelle and Russellville Railroad | *323
Prairie Creek:
At its confluence with Prairie Creek Tributary No. 2 | *374
Approximately 250 feet upstream of Weir Road | *393
Prairie Creek Tributary No. 2:
At its confluence with Prairie Creek | *374
At its intersection with Weir Road (Arkansas Highway 326) | *382
Approximately 2,000 feet upstream of Weir Road | *394
School Drain:
At its confluence with Prairie Creek | *343
Approximately 2,000 feet upstream of University Drive | *387
Maps are available for inspection at 205 West Second Street, Russellville, Arkansas.
———
Washington County and Incorporated Areas (FEMA Docket No. 7322)
Middle Fork White River:
Approximately 3,700 feet upstream of its confluence with Koger Branch
Stokenbury Creek:
At its confluence with the White River | *1,199
Just upstream of Stokenbury Road | *1,446
Koger Branch:
At its confluence with the Middle Fork White River | *1,202
Approximately 2,700 feet upstream of South Harris Drive | *1,220
Faubus Creek:
At its confluence with the White River | *1,211
Approximately 4,300 feet upstream of South Center Street | *1,255
Maps for the City of Elkins are available for inspection at 130 West First Street, Elkins, Arkansas.
Maps for Washington County are available for inspection at 4 South College Avenue, Suite 205, Fayetteville, Arkansas.
NORTH DAKOTA
Benson County and Incorporated Areas (FEMA Docket No. 7322)
Silver Lake:
Entire shoreline of Silver Lake | *1,450
Pelican Lake:
South shoreline of Pelican Lake | *1,450
Spring Lake:
Spring Lake shoreline | *1,450
Devils Lake:
Northwest shoreline of Grahms Island | *1,450
Devils Lake shoreline adjacent to Minnewaukan | *1,451
Area east of U.S. Route 281, south of intersection with State Route 19 | *1,453
West side Woods Rutten Causeway | *1,454
West side of State Route 57 Causeway south of the Narrows State Recreation Area | *1,455
Maps are available for inspection at the Benson County Courthouse, Tax Equalization Office, 311 B Avenue South, Minnewaukan, North Dakota.
Maps for the City of Minnewaukan are available for inspection at the City Office, 230 Main Street East, Minnewaukan, North Dakota 58351.
Maps for Spirit Lake Tribe are available for inspection at the Floodplain Emergency Management-Bureau of Indian Affairs Realty Office, Highway 57, Fort Totten, North Dakota.
———
Ramsey County and Incorporated Areas (FEMA Docket No. 7322)
Lake Irvine:
Entire shoreline Lake Irvine | *1,450
Lake Alice:
Entire shoreline Lake Alice | *1,450
Chain Lake:
Entire shoreline Chain Lake | *1,450
Mikes Lake:
Entire shoreline Mikes Lake | *1,450
Dry Lake:
Entire shoreline of Dry Lake | *1,450
Stone Lake:
Entire shoreline of Stone Lake | *1,450
Pelican Lake:
North shoreline of Pelican Lake | *1,450
Sixmile Bay:
Northernmost point of Sixmile Bay | *1,450
West shore of Sixmile Bay | *1,450
East shore of Sixmile Bay two miles south of State Route 19 | *1,451
Creel Bay:
Entire western shore of Creel Bay | *1,450
Bay side of levee, east shoreline of Creel Bay, one mile north of Lakewood Park | *1,452
Bay side of levee located at southwest side of Devils Lake Municipal Airport | *1,455
Devils Lake:
Approximately 7,000 feet west of 8th Avenue South | *1,451
Approximately 7,000 feet east of 8th Avenue South | *1,452
West Side State Route 57 Causeway south of the Narrows State Recreational Area | *1,455
East Devils Lake:
North shoreline of East Devils Lake | *1,450
Maps for Benson County, Township of Coulee and Township of Creel are available for inspection at Ramsey County Emergency Management Office, 524 4th Avenue, Devils Lake, North Dakota.
Maps are available for inspection at the Post Office c/o Bill Bartle, 304 Orvis Avenue, Church's Ferry, North Dakota.
Maps are available for inspection at the City Offices, 423 6th Street, Devils Lake, North Dakota.
WASHINGTON
Okanogan County (Unincorporated Areas) (FEMA Docket No. 7322)
Twisp River:
Approximately 2.18 miles above mouth | *1,677
Approximately 2.23 miles above mouth | *1,679
At its intersection with the Poorman Creek Cutoff Road Bridge | *1,830
Maps are available for inspection at Okanogan County Planning and Development Office, 237 Fourth Avenue, Okanogan, Washington.

(Catalog of Federal Domestic Assistance No. 83.100, “Flood Insurance.”)

Dated: October 20, 2000.
Michael J. Armstrong,
Associate Director for Mitigation.

[FR Doc. 00-27644 Filed 10-26-00; 8:45 am]

BILLING CODE 6718-04-P